DEPARTMENT OF THE INTERIOR

Bureau of Land Management

[CA-610-01-1610-DL]

Proposed Order for Temporary Closure of Selected Routes of Travel or Areas in Imperial County, Riverside County, and San Bernardino County, California

AGENCY: Bureau of Land Management, Interior.

SUMMARY: Selected routes of travel or areas in two locations in the California Desert Conservation Area (CDCA) will be temporarily closed to vehicle use pursuant to 43 CFR 8364.1. The proposed closure is to provide interim protection for the desert tortoise, desert tortoise habitat, and other resource values from motorized vehicle use authorized under the CDCA Plan. By taking these interim actions, BLM contributes to the conservation of the endangered and threatened species in accordance with section 7(a) (1) of the Endangered Species Act (ESA). BLM also avoids making any irreversible or irretrievable commitment of resources which would foreclose any reasonable and prudent alternatives which might be required as a result of the consultation on the CDCA plan in accordance with 7(d) of the ESA. These closures will remain in effect until records of decision are signed for amendments to the CDCA Plan for the Northern and Eastern Colorado Desert and the West Mojave Desert.

The vehicle route closures are as follows: 1. In the Edwards Bowl area vehicle use is restricted to specified routes. 2. In two areas of desert tortoise critical habitat in the Northern and Eastern Colorado Desert (NECO) planning area vehicle use is restricted to specified routes.

Exceptions to the vehicle closures include Bureau of Land Management (BLM) operation and maintenance vehicles, law enforcement and fire vehicles, and other emergency vehicles.

The Orders for closure will be posted in the appropriate BLM Field Office and at places near and/or within the area to which the closure or restriction applies (see Field Offices at end of this Notice).

DATE: No sooner than July 16, 2001, Federal Register Orders of final closure will be published for each of the two areas.

ADDRESSES: Written comments may be sent to the appropriate Field Office, Attn: Route Closure, at the addresses listed below.

SUPPLEMENTARY INFORMATION: On March 16, 2000, the Center for Biological Diversity, and others (Center) filed for injunctive relief in U.S. District Court, Northern District of California (Court) against the Bureau of Land Management (BLM) alleging that the BLM was in violation of Section 7 of the Endangered Species Act (ESA) by failing to enter into formal consultation with the U.S. Fish and Wildlife Service (FWS) on the effects of adoption of the California Desert Conservation Area Plan (CDCA Plan), as amended, upon threatened and endangered species. On August 25, 2000, the BLM acknowledged through a court stipulation that activities authorized, permitted, or allowed under the CDCA Plan may adversely affect threatened and endangered species, and that the BLM is required to consult with the FWS to insure that adoption and implementation of the CDCA Plan is not likely to jeopardize the continued existence of threatened and endangered species or to result in the destruction or adverse modification of critical habitat of listed species.

Although BLM has received biological opinions on selected activities, consultation on the overall CDCA Plan is necessary to address the cumulative effects of all the activities authorized by the CDCA Plan. Consultation on the overall Plan is complex and the completion date is uncertain. Absent consultation on the entire Plan, the impacts of individual activities, when added together with the impacts of other activities in the desert are not known. The BLM entered into negotiations with plaintiffs regarding interim actions to be taken to provide protection for endangered and threatened species pending completion of the consultation on the CDCA Plan. Agreement on these interim actions avoided litigation of plaintiffs' request for injunctive relief and the threat of an injunction prohibiting all activities authorized under the Plan. These interim agreements have allowed BLM to continue to authorize appropriate levels of activities throughout the planning area during the lengthy consultation process while providing appropriate protection to the desert tortoise and other listed species in the short term. By taking interim actions as allowed under 43 CFR Part 8364.1, BLM contributes to the conservation of endangered and threatened species in accordance with 7(a)(1) of the ESA. BLM also avoids making any irreversible or irretrievable commitment of resources which would foreclose any reasonable and prudent alternative measures which might be required as a result of the consultation on the CDCA plan in accordance with 7(d) of the ESA. In January 2001, the parties signed the Stipulation and Proposed Order Concerning All Further Injunctive Relief and included the closures (paragraphs 40 and 43) described in this Notice.

All existing routes in the subject areas are being or will be evaluated and proposed for designation as Open, Closed, or Limited through the land use planning process as amendments to the California Desert Conservation Area Plan. These designations will be based on criteria identified in 43 CFR 8342.1. Management of routes proposed for closure will minimize the potential for any adverse effects pending designation.

The BLM Field Offices listed below have prepared environmental assessments (EA) which are available for a 15 day public review prior to publication of the final Federal Register Order. The beginning of the 15 day review for each EA may be different but all generally coincide with the publishing of this Notice. Interested parties should contact the Field Offices for the EAs and review dates.

In general, the EAs indicate the following reasons for each closure:

Edwards Bowl: By reducing the size of the available route network and better controlling OHV use in the area, the potential for direct impacts to desert tortoise, Mojave ground squirrel, burrowing owl, and other species will be diminished. The proposed closure will help to prevent burrow collapse and species mortality caused by motorized vehicles. In addition the closure will have an overall positive impact on habitat by reducing soil loss and erosion and increasing vegetation regrowth and plant community establishment.

NECO Routes: The proposed closure will have a positive impact on many special status and other species. The proposed closure will reduce potential for significant adverse impacts to wildlife in critical seasons, such as when young are being reared. As desert tortoise commonly travel in washes and use the banks of washes for burrowing, restricting motorized vehicle use to specific routes and prohibiting use of certain washes within desert tortoise habitat management units 1 and 2 of the NECO plan will reduce tortoise mortality and crushing of burrows. The proposal will also provide added protection for other species including bighorn sheep, burro deer, several species of bats, prairie falcon, golden eagle Couch's spadefoot toad, and other species occurring in the area of the proposed closure.

The closures are described as follows:

1. Edwards Bowl (Barstow Field Office): The proposed route closures are north of the El Mirage Recreation Area and the town of Adelanto. The area covered by the closure will include all of the public lands within Sections 6, 7, 8, 16, 20 in T.8N., R.7W., San Bernardino Principle Meridian.

2. NECO Routes Areas (Palm Springs, Needles, El Centro Field Offices): The geographic center of Unit 1 is located about 35 miles southwest of Needles, California. It is generally bounded on the north by Interstate Highway 40; on the northeast by the Camino to U.S. Highway 95 powerline road; on the east by U.S. Highway 95, except that a portion of the Chemehuevi Valley east of Highway 95, and west and northwest of the Whipple Mountains Wilderness is included in the unit; on the southeast by the Colorado River Aqueduct; on the south by the northern end of the Turtle Mountains; on the southwest by the eastern flank of the Old Woman Mountains; and on the northwest by the western boundary of the Clipper Mountains Wilderness. The geographic center of Unit 2 is located about 50 miles east-southeast of Indio, California. It is generally bounded on the north by the southern boundary of Joshua Tree National Park and Interstate Highway 10; on the east by the southeast boundary of the Chuckwalla Mountains Wilderness and the lower northeastern boundary of the Chocolate Mountains Aerial Gunnery Range, though detached segments of the unit further to the east are comprised of the Little Chuckwalla Mountains Wilderness, a portion of the Palo Verde Mountains Wilderness, and the Chuckwalla Valley Dune Thicket Area of Critical Environmental Concern; and on the south and southwest by a line running southeast to northwest through the middle of the Chocolate Mountains Aerial Gunnery Range and extending to the boundary of Joshua Tree National Park.

FOR FURTHER INFORMATION CONTACT: Edwards Bowl:

Barstow Field Office Manager, 2601 Barstow Road, Barstow, CA 92311, Tel: 760-252-6000.

NECO Routes:

El Centro Field Office Manager, 1661 So. 4th Street, El Centro, CA 92243, Tel: 760-337-4000.

Palm Springs-South Coast Field Office Manager, 690 W. Garnet Ave., P.O. Box 1260, North Palm Springs, CA 92258, Tel: 760-251-4800.

Needles Field Office Manager, 101 W. Spikes Rd., Needles, CA 92363, Tel: 760-326-7000.

Dated: June 8, 2001.
James Wesley Abbott,
Associate State Director.

[FR Doc. 01-15242 Filed 6-14-01; 8:45 am]

BILLING CODE 4310-40-P